NUCLEAR REGULATORY COMMISSION

[NRC-2018-0092]

Standard Format and Content of Physical Security Plans, Training and Qualifications Plans, and Safeguards Contingency Plans for Nuclear Power Plants

AGENCY: Nuclear Regulatory Commission.

ACTION: Draft regulatory guide; extension of comment period.

SUMMARY: On May 14, 2018, the U.S. Nuclear Regulatory Commission (NRC) solicited comments on Draft Regulatory Guide (DG), DG-5048, “Standard Format and Content of Physical Security Plans, Training and Qualifications Plans, and Safeguards Contingency Plans for Nuclear Power Plants.” The public comment period was originally scheduled to close on July 13, 2018. The NRC has decided to extend the public comment period by 30 days to allow more time for members of the public to develop and submit their comments.

DATES: The due date for comments requested in the document published on May 14, 2018 (83 FR 22297), is extended. Comments should be filed no later than August 13, 2018. Comments received after this date will be considered, if it is practical to do so, but the Commission is able to ensure consideration only for comments received on or before this date.

ADDRESSES: You may submit comments by any of the following methods:

• Federal Rulemaking website: Go to http://www.regulations.gov and search for Docket ID NRC-2018-0092. Address questions about NRC dockets to Jennifer Borges; telephone: 301-287-9127; email: Jennifer.Borges@nrc.gov. For technical questions, contact the individuals listed in the FOR FURTHER INFORMATION CONTACT section of this document.

• Mail comments to: May Ma, Office of Administration, Mail Stop: TWFN 7-A60M, U.S. Nuclear Regulatory Commission, Washington, DC 20555-0001. For additional direction on obtaining information and submitting comments, see “Obtaining Information and Submitting Comments” in the SUPPLEMENTARY INFORMATION section of this document.

FOR FURTHER INFORMATION CONTACT: Dennis Gordon, Office of Nuclear Security and Incident Response, telephone: 301-287-3633, email: Dennis.Gordon@nrc.gov and Mekonen Bayssie, Office of Nuclear Regulatory Research; telephone: 301-415-1699, email: Mekonen.Bayssie@nrc.gov. Both are staff of the U.S. Nuclear Regulatory Commission, Washington, DC 20555-0001.

SUPPLEMENTARY INFORMATION:

I. Obtaining Information and Submitting Comments

A. Obtaining Information

Please refer to Docket ID NRC-2018-0092 when contacting the NRC about the availability of information regarding this action. You may obtain publically-available information related to this action, by any of the following methods:

• Federal Rulemaking website: Go to http://www.regulations.gov and search for Docket ID NRC-2018-0092.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. DG-5048 is available in ADAMS under Accession No. ML17124A490.

• NRC's PDR: You may examine and purchase copies of public documents at the NRC's PDR, Room O1-F21, One White Flint North, 11555 Rockville Pike, Rockville, Maryland 20852.

B. Submitting Comments

Please include Docket ID NRC-2018-0092 in your comment submission. The NRC cautions you not to include identifying or contact information that you do not want to be publicly disclosed in your comment submission. The NRC will post all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

On May 14, 2018 (83 FR 22297), the NRC solicited comments on DG-5048, “Standard Format and Content of Physical Security Plans, Training and Qualifications Plans, and Safeguards Contingency Plans for Nuclear Power Plants” (ADAMS Accession No. ML17124A490). The public comment period was originally scheduled to end on July 13, 2018. On May 14, 2018, the Nuclear Energy Institute (NEI) requested that the comment period be extended, stating that “the change would allow NEI and its members' sufficient time to perform a thorough review of the document consistent with other work priorities” (ADAMS Accesion No. ML18136A546). The NRC agreed to the request because of the length and comprehensiveness of this DG. Accordingly, the NRC is extending the public comment period on this document until August 13, 2018, to allow more time for members of the public to submit their comments.

Dated at Rockville, Maryland, this 23rd day of May, 2018.
For the Nuclear Regulatory Commission.
Thomas H. Boyce,
Chief, Regulatory Guidance and Generic Issues Branch, Division of Engineering, Office of Nuclear Regulatory Research.

[FR Doc. 2018-11460 Filed 5-25-18; 8:45 am]

BILLING CODE 7590-01-P